DEPARTMENT OF STATE

[Public Notice Number 3585]

Notice of Meetings, United States International Telecommunication Advisory Committee (ITAC)—Telecommunication Standardization Sector (ITAC-T); U.S. Study Group B

The Department of State announces meetings of the U.S. International Telecommunication Advisory Committee—Telecommunication Standardization (ITAC-T) National Committee and US Study Group B. The purpose of the Committees is to advise the Department on policy and technical issues with respect to the International Telecommunication Union and international telecommunication standardization and development. Except where noted, meetings will be held at the Department of State, 2201 “C” Street, NW, Washington, DC.

The ITAC-T National Committee will meet on May 8, 2001, from 9:30 to 4:00 at a location to be determined to complete drafting of new ITAC-T Guidelines.

The ITAC-T U.S. Study Group B will meet from 9:00 to 4:30 on April 6 and 27, 2001, to prepare for meetings of ITU-T Study Groups 11, 13, and the Special Study Group. The April 6 meeting will be held at the Embassy Suites, Paradise Valley, 4415 East Paradise Valley Parkway South, Paradise Valley, AZ 85032, tel: 602-765-5800, in the morning, starting 30 minutes after the T1S1 Plenary closes. The April 27 meeting will be held at the Keystone Resort and Conference Center, 0633 Tennis Townhouse Road, Keystone, CO 80435, tel: 970-496-2316, in the morning, starting 30 minutes after the T1P1 Plenary closes.

Members of the general public may attend these meetings. Directions to meeting locations and actual room assignments may be determined by calling the Secretariat at 202 647-0965/2592. For meetings held at the Department of State: entrance to the building is controlled; people intending to attend any of the ITAC meetings should send a fax to (202) 647-7407 not later than 24 hours before the meeting for preclearance. This fax should display the name of the meeting (ITAC T, U.S. Study Group) and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: March 7, 2001.
Julian Minard,
Secretariat, ITAC-T, U.S. Department of State.

[FR Doc. 01-7155 Filed 3-21-01; 8:45 am]

BILLING CODE 4710-45-U